DEPARTMENT OF COMMERCE

International Trade Administration

[A-559-808, A-469-819]

Acetone From Singapore and Spain: Correction to Antidumping Duty Orders

AGENCY: Enforcement and Compliance, International Trade Administration, Department of Commerce.

SUMMARY: The Department of Commerce (Commerce) is correcting the antidumping duty orders on acetone from Singapore and Spain to state the correct date on which the provisional suspension of liquidation measures expired.

DATES: Applicable January 22, 2020.

FOR FURTHER INFORMATION CONTACT: Joshua DeMoss at (202) 482-3362 (Singapore) or Preston Cox at (202) 482-5041 (Spain), AD/CVD Operations, Office VI, Enforcement and Compliance, International Trade Administration, U.S. Department of Commerce, 1401 Constitution Avenue NW, Washington, DC 20230.

SUPPLEMENTARY INFORMATION: On December 20, 2019, Commerce published antidumping duty orders on acetone from Singapore and Spain.¹ In the Orders, Commerce inadvertently stated an incorrect date for the date on which the provisional suspension of liquidation measures expired. Specifically, December 3, 2019, was incorrectly published as the date on which the provisional measures expired. Commerce is correcting the Orders to clarify that December 2, 2019 is the date on which the provisional suspension of liquidation measures expired.

¹ See Acetone from Singapore and Spain: Antidumping Duty Orders, 84 FR 70146 (December 20, 2019) (Orders).

This correction to the Orders is published in accordance with sections 733(d) and 736(a) of the Tariff Act of 1930, as amended.

Dated: January 15, 2020.
Jeffrey I. Kessler,
Assistant Secretary for Enforcement and Compliance.

[FR Doc. 2020-00952 Filed 1-21-20; 8:45 am]

BILLING CODE 3510-DS-P